DEPARTMENT OF DEFENSE

Department of the Army; Corps of Engineers

Intent To Prepare a Draft Programmatic Environmental Impact Statement for the Lake Washington Ship Canal Ecosystem Restoration Project, King County, WA

AGENCY: Department of the Army, U.S. Army Corps of Engineers, DoD.

ACTION: Notice of intent.

SUMMARY: Pursuant to section 102(2)(c) of the National Environmental Policy Act (NEPA) of 1969, as amended, the U.S. Army Corps of Engineers (Corps), Seattle District, as lead Federal agency, will prepare a programmatic environmental impact statement (PEIS) evaluating alternative fish and wildlife habitat and water quality restoration approaches for the Lake Washington Basin, King County, Washington. This environmental impact statement will be a combined Federal NEPA and Washington State Environmental Policy Act (SEPA) document. The lead agency for SEPA will be the King County Water and Land Resources Division. Five restoration approaches will be evaluated in the PEIS: (1) No action; (2) Habitat restoration that would benefit multiple species; (3) A program that principally benefits fish species listed as “threatened” under the Endangered Species Act (ESA); (4) Restoration that focuses on geographic areas; and (5) Restoration that focuses on specific life history stages. If approved, implementation of the program would begin in 2006. Potential issues of concern for the PEIS include impacts to fish and their habitat, water quality, wetlands, riparian habitat, flood control, land use, and public safety.

DATES: Submit comments to the address below by December 1, 2003.

ADDRESSES: Mr. Jeffrey F. Dillon, Environmental Resources Section, U.S. Army Corps of Engineers, P.O. Box 3755, Seattle, Washington 98124-3755.

FOR FURTHER INFORMATION CONTACT: Questions regarding the scoping process or preparation of the PEIS may be directed to: Jeffrey F. Dillon (206) 764-6174.

SUPPLEMENTARY INFORMATION:

1. Proposed Action. The Corps of Engineers and the King County Water and Land Resources Division propose to evaluate alternative habitat restoration programs for the Lake Washington Basin in King and Snohomish Counties, Washington. For preparation of this PEIS, the Corps, Seattle District is the lead Federal agency under NEPA (42 USC 4321 et seq.) and the Council on Environmental Quality implementing guidelines (40 CFR 1500-1508). The King County Water and Land Resources Division is the lead state agency under the Washington SEPA (Chapter 43.21C RCW) and the SEPA guidelines (Chapter 197-10 WAC).

The Corps is authorized to implement habitat restoration programs under Section 209 of Public Law 87-874 (Puget Sound and Adjacent Waters Study) of the 1962 Flood Control Act, the Water Resources Development Act of 1990, and Corps ecosystem restoration guidance (Engineering Circular [EC] 1105-2-210). Corps of Engineers activities in ecosystem restoration will concentrate on bio-engineering solutions to water and related land resource problems.

The proposed action would restore aquatic ecosystem habitat and processes by reconnecting isolated habitat elements, increasing channel diversity, establishing areas of estuarine habitat, increasing floodplain habitat and connectivity, restoring small tributaries, increasing the amount of large woody debris in the river, replenishing river sediments, and improving the water temperature regime. If the proposed action were approved, initial construction would begin in 2006.

2. Restoration Approaches: Three programmatic restoration approaches will be considered and evaluated in the environmental impact statement. The first approach is the No Action alternative and would include various agencies and groups continuing to implement small-scale restoration projects but within a less coordianted framework than under the other proposed alternatives. Continued implementation of restoration projects might include reconnecting isolated habitat elements, localized bank revegetation, and some placement of large woody debris. The second approach is an ecosystem processes approach to habitat restoration within a comprehensive framework. Under this approach, benefits to many fish and wildlife species will be targeted. The third approach is restoration of ESA-listed fish species. Recently, Chinook salmon (Oncorhynchus tshawytscha) and bull trout (Savelinus confluentus) have been listed under ESA. This approach would evaluate restoration actions that would focus benefits on these species.

3. Scoping and Public Involvement: Public involvement will be sought during scoping and throughout the study in accordance with NEPA and SEPA procedures. Public meetings will be held during public review of the draft PEIS. A public scoping process will be initiated to clarify issues of major concern, identify studies that might be needed to analyze and evaluate impacts, and obtain public input on the range and acceptability of approaches and further definition of alternatives. This notice of intent formally commences the joint scoping process under NEPA and SEPA. As part of the scoping process, all affected Federal, state, and local agencies, Native American tribes, and other interested private organizations, including environmental interest groups, are invited to comment on the scope of hte PEIS. Comments are requested concerning project alternatives, mitigation measures, probable significant environmental impacts, and permits or other approvals that may be required. To date, the following impact areas have been identified and will be analyzed in depth in the PEIS: (1) Fish and their habitat, (2) water quality, (3) wetlands, (4) riparian habitat, (5) wildlife, (6) land use, and (7) public safety. The environmental review process will be comprehensive and will integrate and satisfy the requirements of NEPA (Federal) and SEPA (Washington State), and other relevant Federal, state, and local environmental laws. Written comments may will be accepted within 30 days of publication of this notice in the Federal Register (see DATES).

4. Other Environmental Review, Coordination, and Permit Requirements: Other environmental review, coordination, and permit requirements include preparation of a section 404(b)(1) evaluation by the Corps and consultation among the Corps, State of Washington, U.S. Fish and Wildlife Service, and National Oceanic and Atmospheric Administration both per section 7 of the Endangered Species Act. Coordination will also be initiated with the U.S. Fish and Wildlife Service to meet the requirements of the Fish and Wildlife Coordination Act.

5. Availability of the Draft PEIS: The draft PEIS is scheduled for release during the spring of 2004 and the Final PEIS is scheduled for release during the fall of 2004.

Luz D. Ortiz,
Army Federal Register Liaison Officer.

[FR Doc. 03-27358 Filed 10-29-03; 8:45 am]

BILLING CODE 3710-ER-M